NUCLEAR REGULATORY COMMISSION

[Docket No. 50-331; NRC-2020-0148]

NextEra Energy Duane Arnold, LLC; Duane Arnold Energy Center; Post-Shutdown Decommissioning Activities Report

AGENCY: Nuclear Regulatory Commission.

ACTION: Reopening of comment period.

SUMMARY: On June 19, 2020, the U.S. Nuclear Regulatory Commission (NRC) solicited comments on the post-shutdown decommissioning activities report (PSDAR) for the Duane Arnold Energy Center (DAEC). The PSDAR, which includes the site-specific decommissioning cost estimate (DCE), provides an overview of NextEra Energy Duane Arnold, LLC's (NEDA or the licensee's) planned decommissioning activities, schedule, projected costs, and environmental impacts for DAEC. The public comment period closed on October 19, 2020, was reopened on October 26, 2020, and closed again on February 19, 2021. The NRC has decided to reopen the public comment period for a second time to provide additional time for members of the public to develop and submit their comments, as well as to allow time for an in-person public meeting on the PSDAR. The NRC will hold a public meeting to discuss the PSDAR's content and receive comments once restrictions associated with the Coronavirus Disease 2019 public health emergency are lifted.

DATES: The comment period for the document published on June 19, 2020 (85 FR 37116) has been reopened. Comments should be filed no later than August 19, 2021. Comments received after this date will be considered, if it is practical to do so, but the Commission is able to ensure consideration only for comments received on or before this date.

ADDRESSES: You may submit comments by any of the following methods (unless this document describes a different method for submitting comments on a specific subject); however, the NRC encourages electronic comment submission through the Federal Rulemaking website:

• Federal Rulemaking website: Go to https://www.regulations.gov and search for Docket ID NRC-2020-0148. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Marlayna V. Doell, Office of Nuclear Materials Safety and Safeguards, U.S. Nuclear Regulatory Commission, Washington, DC 20555-0001, telephone: 301-415-3178; email: Marlayna.Doell@nrc.gov.

SUPPLEMENTARY INFORMATION:

I. Obtaining Information and Submitting Comments

A. Obtaining Information

Please refer to Docket ID NRC-2020-0148 when contacting the NRC about the availability of information for this action. You may obtain publicly available information related to this action by any of the following methods:

• Federal Rulemaking website: Go to https://www.regulations.gov and search for Docket ID NRC-2020-0148.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

B. Submitting Comments

The NRC encourages electronic comment submission through the Federal Rulemaking website (https://www.regulations.gov). Please include Docket ID NRC- 2020-0148 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On June 19, 2020, the NRC solicited comments on the PSDAR dated April 2, 2020, including the site-specific DCE for DAEC (ADAMS Accession No. ML20094F603). The purpose of the original Federal Register notice (85 FR 37116; June 19, 2020) was to inform the public of a meeting to discuss and accept comments on the PSDAR and DCE. The public comment period closed on October 19, 2020, was reopened on October 26, 2020 (85 FR 67780), to account for the restrictions associated with the Coronavirus Disease 2019 public health emergency and closed again on February 19, 2021.

The NRC has decided to once again reopen the public comment period on this document until August 19, 2021, to provide additional time for members of the public to develop and submit their comments, as well as to allow time for an in-person public meeting on the DAEC PSDAR. The NRC will hold a public meeting to discuss the PSDAR's content and receive comments once restrictions associated with the Coronavirus Disease 2019 public health emergency are lifted. Members of the public interested in attending this meeting should monitor the NRC's Public Meeting Schedule website at https://www.nrc.gov/pmns/mtg for additional information.

Dated: March 2, 2021.
For the Nuclear Regulatory Commission.
Bruce Watson,
Chief, Reactor Decommissioning Branch, Division of Decommissioning, Uranium Recovery, and Waste Programs, Office of Nuclear Material Safety and Safeguards.

[FR Doc. 2021-04631 Filed 3-4-21; 8:45 am]

BILLING CODE 7590-01-P